DEPARTMENT OF DEFENSE

Department of the Army; Corps of Engineers

Intent To Prepare a Draft Environmental Impact Statement for Hurricane and Storm Damage Reduction for South Ponte Vedra Beach, Vilano Beach, and Summer Haven Beach Reaches, St. Johns County, FL

AGENCY: Department of the Army, U.S. Army Corps of Engineers, DoD.

ACTION: Notice of intent.

SUMMARY: The U.S. Army Corps of Engineers, Jacksonville District, intends to prepare a Draft Environmental Impact Statement (DEIS) for evaluation of the feasibility of providing hurricane and storm damage reduction (HSDR), and related purposes to the shores of St. Johns County, Florida. In cooperation with St. Johns County, the study will evaluate alternatives that will maximize HSDR while minimizing environmental impacts within three reaches designated critically eroded by Florida Department of Environmental Protection (FDEP): (1) South Ponte Vedra Beach (R84-R110/5 miles), (2) Vilano Beach (R110-R122/2.5 miles) and (3) Summer Haven Beach (R197-R209/2.3 miles).

ADDRESSES: U.S. Army Corps of Engineers, Planning Division, Environmental Branch, P.O. Box 4970, Jacksonville, FL 32232-0019.

FOR FURTHER INFORMATION CONTACT: Mr. Paul M. DeMarco, by e-mail Paul.M.DeMarco@usace.army.mil or by telephone at 904-232-1897.

SUPPLEMENTARY INFORMATION: a. Proposed Action. The Rivers and Harbors Act of 1962 gave the Secretary of the Army broad authorization to survey coastal areas of the United States and its possessions in the interest of beach erosion control, hurricane protection and related purposes, provided that surveys of particular areas would be authorized by appropriate resolutions (Pub. L. 87-874, Section 110). As a result, portions of the St. Johns County shoreline experiencing severe erosion were studied extensively. The St. Johns County, Florida General Reevaluation Report (GRR) (USACE 1998), recommended beach nourishment along St. Augustine Beach. Initial fill was completed in January 2003.

Authority for the proposed study is House Resolution 2646 adopted June 21, 2000. A Reconnaissance Report completed in March 2004, by the Corps, concluded based on preliminary findings, there was a federal interest in pursuing HSDR for the Vilano Beach and Summer Haven Beach reaches. Subsequent to the completion of that report, South Ponte Vedra Beach experienced severe erosion, was designated as a critically eroded beach by FDEP, and therefore added to the scope of the Federal study.

b. Alternatives. Project's alternatives include no action and various levels of protection along approximately 9.8 miles of coastal shoreline along three reaches designated as critically eroded areas. In addition to various levels of beach nourishment and periodic renourishment, the Corps will consider other management measures such as nearshore placement of sand, breakwaters, submerged artificial reef, groins, revetments, seawalls, dunes/vegetation, change to the Coastal Construction Control Line, relocation of structures, moratorium on construction, establish a no-growth program, relocation of structures, flood proofing of structures, and condemnation of structures with land acquisition.

c. Scoping Process. The scoping process as outlined by the Council on Environmental Quality has been and will continue to be utilized to involve Federal, State, and local agencies, affected Indian tribes, and other interested persons and organizations. Scoping letters were sent to the appropriate parties requesting their comments and concerns on August 17, 2005, for the Summer Haven and Vilano Beach reaches of the study area. After that time, FDEP designated the South Ponte Vedra Reach as critically eroding. A second scoping letter was sent out on September 16, 2008, to include the South Ponte Vedra Reach in the study area. Initial comments and concerns have been received. Any additional persons and organizations wishing to participate in the scoping process should contact the U.S. Army Corps of Engineers at the above address.

Significant issues to be analyzed in the DEIS would include effects on Federally listed threatened and endangered species, and Essential Fish Habitat. Other issues would be health and safety, water quality, aesthetics and recreation, fish and wildlife resources, cultural resources, and socio-economic resources. Issues identified through scoping and public involvement thus far include loss of land and property due to erosion, lack of protection from hurricanes, loss of recreational beach, concern over impacts to sea turtles and shore birds from renourishment, concern over impacts to benthic organisms from mining and fill, concern over protecting surfing spots and the revenue they generate, concern over wasting Federal tax dollars, too much time since the first studies without positive results, and concern that revetments and seawalls harm sea turtle nesting.

Any proposed action would be coordinated with the U.S. Fish and Wildlife Service and the National Marine Fisheries Service (NMFS) pursuant to Section 7 of the Endangered Species Act, and with the State Historic Preservation Officer. The NMFS Habitat Conservation Division (HCD) has accepted cooperating agency status on the study.

Any proposed action would also involve evaluation for compliance with guidelines pursuant to section 404(b) of the Clean Water Act; application (to the State of Florida) for Water Quality Certification pursuant to section 401 of the Clean Water Act; certification of state lands, easements, and rights of way; and determination of Coastal Zone Management Act consistency. The FDEP Bureau of Beaches and Coastal Systems (BBCS) has also accepted cooperating agency status on the study.

The U.S. Army Corps of Engineers and the non-Federal sponsor, St. Johns County, would provide extensive information and assistance on the resources to be impacted and alternatives.

d. Scoping Meetings. Public scoping meetings could be held. Exact dates, times, and locations would be published in local papers.

e. Agency Role. As the cooperating agency, NMFS HCD and FDEP BBCS will provide information and assistance on the resources to be impacted, mitigation measures and alternatives. Other agencies having either regulatory authority or special expertise may also be invited to become a cooperating agency in preparation of the EIS. Specifically, as a Federal agency with jurisdiction to manage resources available on the Outer Continental Shelf (OCS), the U.S. Minerals Management Service would be invited should potential borrow areas be identified within Federal waters (outside the 3-mile State statutory limit).

f. Draft Environmental Impact Statement Availability. The study schedule is dependent upon Congressional funding and the current estimate is for the Draft Environmental Impact Statement to be available on or after 2012.

Dated: March 25, 2010.
Eric P. Summa,
Chief, Environmental Branch.

[FR Doc. 2010-7598 Filed 4-2-10; 8:45 am]

BILLING CODE 3720-58-P